INTERNATIONAL TRADE COMMISSION

[Investigation No. 332-288]

Ethyl Alcohol for Fuel Use: Determination of the Base Quantity of Imports

AGENCY: United States International Trade Commission.

ACTION: Termination of investigation.

SUMMARY: The Commission terminated the investigation following the expiration of the statutory requirement that the Commission make such determinations. Section 423(c) of the Tax Reform Act of 1986 (“the Act”), as amended (19 U.S.C. 2703 note), required the United States International Trade Commission to determine annually the amount (expressed in gallons) that is equal to 7 percent of the U.S. domestic market for fuel ethyl alcohol during the 12-month period ending on the preceding September 30. This determination was to be used to establish the “base quantity” of imports of fuel ethyl alcohol, and the Commission transmitted it determinations to the U.S. Customs and Border Protection for its use in the further administration of the law.

Section 423(g)(1)(B) of the Act, as amended, states that the effective period of the provisions in section 423 (other than subsection (e)) shall apply to articles entered before the expiration of the effective period of Harmonized Tariff Schedule of the United States heading 9901.00.50. The effective period of this heading expired December 31, 2011.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://edis.usitc.gov.

FOR FURTHER INFORMATION CONTACT: For information specific to this investigation, contact project leader Douglas Newman (202) 205-3328, douglas.newman@usitc.gov, in the Commission's Office of Industries. For information on legal aspects of the investigation contact William Gearhart, william.gearhart@usitc.gov, of the Commission's Office of the General Counsel at (202) 205-3091. The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Background

The Commission published its notice instituting this investigation in the Federal Register on March 21, 1990 (55 FR10512), and published its most recent previous determination for the 2012 amount in the Federal Register on December 30, 2011 (76 FR 82320).

By order of the Commission.
Issued: February 7, 2013.
Lisa R. Barton,
Acting Secretary to the Commission.

[FR Doc. 2013-03168 Filed 2-11-13; 8:45 am]

BILLING CODE 7020-02-P